DEPARTMENT OF ENERGY

Federal Energy Regulatory Commission

[Docket No. IC23-13-000]

Commission Information Collection Activities (FERC-583); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-583, Annual Kilowatt Generating Report (Annual Charges), which will be submitted to the Office of Management and Budget (OMB) for a review of the information collection requirements.

DATES: Comments on the collection of information are due December 13, 2023.

ADDRESSES: Send written comments on FERC-583 to OMB through www.reginfo.gov/public/do/PRAMain, Attention: Federal Energy Regulatory Commission Desk Officer. Please identify the OMB control number (1902-0136) in the subject line. Your comments should be sent within 30 days of publication of this notice in the Federal Register.

Please submit copies of your comments (identified by Docket No. IC23-13-000) to the Commission as noted below. Electronic filing through https://www.ferc.gov is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions:

OMB submissions must be formatted and filed in accordance with submission guidelines at www.reginfo.gov/public/do/PRAMain. Using the search function under the “Currently Under Review field,” select Federal Energy Regulatory Commission; click “submit” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov.

FOR FURTHER INFORMATION CONTACT: Douglas Reimel may be reached by email at DataClearance@FERC.gov, telephone at (202) 502-6461, and fax at (202) 273-0873.

SUPPLEMENTARY INFORMATION:

Title: FERC-583, Annual Kilowatt Generating Report (Annual Charges).

OMB Control No.: 1902-0136.

Type of Request: Three-year extension of the FERC-583 information collection requirements with no changes to the existing collection.

Abstract: Section 10(e) of the Federal Power Act (FPA) ¹ requires the Federal Energy Commission (FERC or Commission) to collect annual charges from entities that generate electricity with hydropower in accordance with Commission authorization. Such charges reimburse the federal government for the cost of administering Part I of the FPA,² the use of Tribal lands, the use of Federal lands, and the use of Federal dams.

¹ 16 U.S.C. 803(e).

² 16 U.S.C. 791 through 823d.

The regulations at 18 CFR 11.1(c)(5) and 11.1(d)(4) require annual kilowatt generating reports from licensees and exemptees. The Commission's Financial Services Division uses the reports to determine the amount of annual charges to be assessed each licensee and exemptee.

The Commission published a 60-day notice in the Federal Register on August 9, 2023 under Docket No. IC23-13-000 and received no comments.

Types of Respondent: (1) Hydropower licensees of projects more than 1.5 megawatts of installed capacity; (2) Holders of exemptions under section 30 of the FPA; ³ and (3) exemptees under sections 405 and 408 of the Public Utility Regulatory Policy Act.⁴

³ 16 U.S.C. 823a.

⁴ 16 U.S.C. 2705.

Estimate of Annual Burden: ⁵ The following table shows the estimated annual burden and cost:

⁵ “Burden” is the total time, effort, or financial resources expended by persons to generate, maintain, retain, or disclose or provide information to or for a Federal agency. For further explanation of what is included in the information collection burden, refer to 5 CFR 1320.3.

FERC-583—Estimated Annual Burdens
A. Type of response | B. Number of respondents | C. Annual number of responses per respondent | D. Total number of responses | E. Average hours & cost ⁶ per response | F. Total annual burden hours & total annual cost | G. Cost per respondent
|  |  | (Col. B × Col. C) |  | (Col. D × Col. E) | (Col. F ÷ Col. B)
Annual kilowatt generating report; 18 CFR 11.1(c)(5) and 11.1(d)(4) | 550 | 1 | 550 | 2 hrs.; $192 | 1,100 hrs.; $105,600 | $192
Application of a State or municipal licensee or exemptee for total or partial exemption from the assessment of annual charges; 18 CFR 11.6 | 50 | 1 | 50 | 2 hrs.; $192 | 100 hrs.; $9,600 | 192
Appeals and requests for rehearing of billing for annual charges; 18 CFR 11.20 | 2 | 1 | 2 | 40 hrs.; $3,840 | 80 hrs.; $7,680 | 3,840
Totals | 602 |  | 602 |  | 1,280 hrs.; $122,880 |

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ The Commission staff thinks that the average respondent for this collection is similarly situated to the Commission, in terms of salary plus benefits. Based upon FERC's 2023 annual average full-time equivalent of $199,867 per year (for salary plus benefits), the average hourly cost is $96.00 per hour.

Dated: November 3, 2023.
Kimberly D. Bose,
Secretary.

[FR Doc. 2023-24837 Filed 11-9-23; 8:45 am]

BILLING CODE 6717-01-P